DEPARTMENT OF LABOR

Employment and Training Administration

[TA-W-74,218; TA-W-74,218A, TA-W-74,218B, TA-W-74,218C, TA-W-74,218D]

Westpoint Home, Inc., New York Corporate Sales Office, New York, NY, Including Employees Working Off-Site in Illinois, Georgia, Minnesota, Indiana, North Carolina; Westpoint Home, Inc., Plano, TX Sales Office, Plano, TX; Westpoint Home, Inc., Daleville, IN Sales Office, Daleville, IN; Westpoint Home, Inc., Rogers, AR Sales Office, Rogers, AR; Westpoint Home, Inc., Winston-Salem, NC Sales Office, Winston-Salem, NC; Amended Certification Regarding Eligibility To Apply for Worker Adjustment Assistance

In accordance with Section 223 of the Trade Act of 1974, as amended (“Act”), 19 U.S.C. 2273, the Department of Labor issued a Certification of Eligibility to Apply for Worker Adjustment Assistance on June 25, 2010, applicable to workers of WestPoint Home, Inc., New York Corporate Sales Office, New York, New York. The Department's Notice was published in the Federal Register on July 7, 2010 (75 FR 39048).

At the request of the State of New York, the Department reviewed the certification for workers of the subject firm. The workers are engaged in employment related to the supply of administrative and managerial services for WestPoint Home, Inc.

New information shows that worker separations have occurred involving employees under the control of the New York, New York location of WestPoint Home, Inc., New York Corporate Sales Office, working off-site in Illinois, Georgia, Minnesota, Indiana, and North Carolina. Information also shows that worker separations occurred at satellite offices of the subject firm: Plano, Texas; Daleville, Indiana; Rogers, Arkansas; and Winston-Salem, North Carolina. These workers are engaged in employment related to the supply of administrative and managerial services for WestPoint Home, Inc.

Based on these findings, the Department is amending this certification to include employees of the New York, New York facility of the subject firm working off-site in Illinois, Georgia, Minnesota, Indiana, North Carolina, Texas, and Arkansas, as well as workers in Sales Offices in Plano, Texas, Daleville, Indiana, Rogers, Arkansas, and Winston-Salem, North Carolina.

The intent of the Department's certification is to include all workers of the subject firm who are adversely affected by the shift by the subject firm in the supply of administrative and managerial services to China, Pakistan, India and Bahrain.

The amended notice applicable to TA-W-74,218 is hereby issued as follows:

All workers of WestPoint Home, Inc., New York Corporate Sales Office, New York, New York, including employees working off-site in Illinois, Georgia, Minnesota, Indiana, and North Carolina (TA-W-74,218), and WestPoint Home, Inc., Plano, Texas Sales Office, Plano, Texas (TA-W-74,218A), Daleville, Indiana Sales Office, Daleville, Indiana (TA-W-74,218B), Rogers, Arkansas Sales Office, Rogers, Arkansas (TA-W-74,218C), and Winston-Salem Sales Office, Winston-Salem, North Carolina (TA-W-74,218D), who became totally or partially separated from employment on or after July 1, 2010 through June 25, 2012, and all workers in the group threatened with total or partial separation from employment on date of certification through two years from the date of certification, are eligible to apply for adjustment assistance under Chapter 2 of Title II of the Trade Act of 1974, as amended.

Signed in Washington, DC, this 11th day of May 2011.
Del Min Amy Chen,
Certifying Officer, Office of Trade Adjustment Assistance.

[FR Doc. 2011-12580 Filed 5-20-11; 8:45 am]

BILLING CODE 4510-FN-P